DEPARTMENT OF ENERGY

Federal Energy Regulatory Commission

[Project No., 14652-000]

BC Energy, LLC; Notice of Preliminary Permit Application Accepted for Filing and Soliciting Comments, Motions To Intervene, and Competing Applications

On December 10, 2014, BC Energy, LLC, filed an application for a preliminary permit, pursuant to section 4(f) of the Federal Power Act (FPA), proposing to study the feasibility of the Bruskasna Creek Hydroelectric Project (Bruskasna Creek Project or project) to be located on Bruskasna Creek, in unincorporated Denali Borough, Alaska. The sole purpose of a preliminary permit, if issued, is to grant the permit holder priority to file a license application during the permit term. A preliminary permit does not authorize the permit holder to perform any land-disturbing activities or otherwise enter upon lands or waters owned by others without the owners' express permission.

The proposed project would consist of the following new features: (1) A 50-foot-long, 10-foot-high concrete diversion weir traversing Bruskasna Creek; (2) an approximately 10-acre-foot impoundment; (3) a 13,500-foot-long, 2.5-foot-diameter steel penstock; (4) a 25-foot-long, 35-foot-wide concrete powerhouse; (5) a single 1.7-megawatt Pelton turbine/generator; (6) a 34,000-foot-long, 15-kilovolt (kV) transmission line interconnecting with an existing 15-kV Golden Valley Electric Association distribution line; (7) an approximately 46,000-foot-long access road; and (8) appurtenant facilities. The estimated annual generation of the Bruskasna Creek Project would be 5.2 gigawatt-hours.

Applicant Contact: Mr. Brent Smith, Northwest Power Services, Inc., P.O. Box 872316, Wasilla, Alaska 99687; phone: (907) 414-8223.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14652-000.

More information about this project, including a copy of the application, can be viewed or printed on the “eLibrary” link of Commission's Web site at http://www.ferc.gov/docs-filing/elibrary.asp. Enter the docket number (P-14652) in the docket number field to access the document. For assistance, contact FERC Online Support.

Dated: December 16, 2014.
Kimberly D. Bose,
Secretary.

[FR Doc. 2014-29952 Filed 12-22-14; 8:45 am]

BILLING CODE 6717-01-P